DEPARTMENT OF TRANSPORTATION

Bureau of Transportation Statistics

Agency Information Collection; Activity Under OMB Review; Report of Financial and Operating Statistics for Small Aircraft Operators

AGENCY: Bureau of Transportation Statistics (BTS), DOT.

ACTION: Notice.

SUMMARY: In compliance with the Paperwork Reduction Act of 1995, Public Law 104-13, the Bureau of Transportation Statistics invites the general public, industry and other governmental parties to comment on the continuing need for and usefulness of BTS collecting financial, traffic and operating statistics from small certificated and commuter air carriers. Small certificated air carriers (operate aircraft with 60 seats or less or with 18,000 pounds of payload capacity or less) currently must file the five quarterly schedules listed below:

A-1 Report of Flight and Traffic Statistics in Scheduled Passenger Operations,

E-1 Report of Nonscheduled Passenger Enplanements by Small Certificated Air Carriers,

F-1 Report of Financial Data,

F-2 Report of Aircraft Operating Expenses and Related Statistics, and

T-1 Report of Revenue Traffic by On-Line Origin and Destination.

Commuter air carriers must file the three quarterly schedules listed below:

A-1 Report of Flight and Traffic Statistics in Scheduled Passenger Operations,

F-1 Report of Financial Data,

T-1 Report of Revenue Traffic by On-Line Origin and Destination.

On August 28, 2001, BTS published in the Federal Register (66 FR 45201) a notice of proposed rulemaking which recommends that small certificated and commuter air carriers report their traffic under the T-100 reporting system. If this proposal becomes a final rule, Form 298-C, Schedules A-1, E-1 and T-1 would be eliminated.

Commenters should address whether BTS accurately estimated the reporting burden and if there are other ways to enhance the quality, utility, and clarity of the information collected.

DATES: Written comments should be submitted by March 18, 2002.

ADDRESSES: Comments should be directed to: Office of Airline Information, K-25, Room 4125, Bureau of Transportation Statistics, 400 Seventh Street, SW., Washington, DC 20590-0001, fax No. 366-3383 or e-mail bernard.stankus@bts.gov.

Comments: Comments should identify the OMB # 2138-0009. Persons wishing the Department to acknowledge receipt of their comments must submit with those comments a self-addressed stamped postcard on which the following statement is made: Comments on OMB # 2138-0009. The postcard will be date/time stamped and returned.

FOR FURTHER INFORMATION CONTACT: Bernie Stankus, Office of Airline Information, K-25, Room 4125, Bureau of Transportation Statistics, 400 Seventh Street, SW., Washington, DC 20590-0001, (202) 366-4387.

SUPPLEMENTARY INFORMATION: OMB Approval No.: 2138-0009.

Title: Report of Financial and Operating Statistics for Small Aircraft Operators.

Form No.: BTS Form 298-C.

Type Of Review: Extension of a currently approved collection for the financial data. The traffic data will be included under OMB Approval number 2138-0040.

Respondents: Small certificated and commuter air carriers.

Number of Respondents: 90.

Estimated Time per Response: 4 hours per commuter carrier; 12 hours per small certificated carrier.

Total Annual Burden: 2,880 hours.

Needs and Uses: Program uses for Form 298-C financial data are as follows:

Mail Rates

The Department of Transportation sets and updates the Intra-Alaska Bush mail rates based on carrier aircraft operating expense, traffic, and operational data. Form 298-C cost data, especially fuel costs, terminal expenses, and line haul expenses are used in arriving at rate levels. DOT revises the established rates based on the percentage of unit cost changes in the carriers' operations. These updating procedures have resulted in the carriers receiving rates of compensation that more closely parallel their costs of providing mail service and contribute to the carriers' economic well-being.

Essential Air Service

DOT often has to select a carrier to provide a community's essential air service. The selection criteria include historic presence in the community, reliability of service, financial stability and cost structure of the air carrier.

Carrier Fitness

Fitness determinations are made for both new entrants and established U.S. domestic carriers proposing a substantial change in operations. A portion of these applications consists of an operating plan for the first year (14 CFR part 204) and an associated projection of revenues and expenses. The carrier's operating costs, included in these projections, are compared against the cost data in Form 298-C for a carrier or carriers with the same aircraft type and similar operating characteristics. Such a review validates the reasonableness of the carrier's operating plan.

The quarterly financial submissions by commuter and small certificated air carriers are used in determining each carrier's continuing fitness to operate. Section 41738 of Title 49 of the United States Code requires DOT to find all commuter and small certificated air carriers fit, willing, and able to conduct passenger service as a prerequisite to providing such service to an eligible essential air service point. In making a fitness determination, DOT reviews three areas of a carrier's operation: (1) The qualifications of its management team, (2) its disposition to comply with laws and regulations, and (3) its financial posture. DOT must determine whether or not a carrier has sufficient financial resources to conduct its operations without imposing undue risk on the traveling public. Moreover, once a carrier begins conducting flight operations, DOT is required to monitor its continuing fitness.

Senior DOT officials must be kept fully informed and advised of all current and developing economic issues affecting the airline industry. In preparing financial condition reports or status reports on a particular airline, financial and traffic data are analyzed. Briefing papers prepared for senior DOT officials may use the same information.

Air Transportation Safety and System Stabilization Act

DOT is using financial data reported by small certificated and commuter air carriers to establish benchmarks to assess the reasonableness of air carrier claims under the Stabilization Act.

Donald W. Bright,
Assistant Director, Airline Information, Bureau of Transportation Statistics.

[FR Doc. 02-1157 Filed 1-15-02; 8:45 am]

BILLING CODE 4910-FE-P